FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 26, 2011.

A. Federal Reserve Bank of Minneapolis (Jacqueline G. King, Community Affairs Officer) 90 Hennepin Avenue, Minneapolis, Minnesota 55480-0291:

1. Marilyn Senty Ivers, Great Falls, Montana; to retain voting shares of Northern Financial Corporation, and thereby indirectly retain voting shares of Independence State Bank, both in Independence, Wisconsin.

B. Federal Reserve Bank of Kansas City (Dennis Denney, Assistant Vice President) 1 Memorial Drive, Kansas City, Missouri 64198-0001:

1. Jeff A. Berkley Trust II; Karen M. Deckert Trust II, Karla J. Spurgeon Trust II; Calvin J. Berkley Trust II; Marika Spurgeon GP Trust; Brenna Spurgeon GP Trust; Patrick Spurgeon GP Trust; Rebekah Berkley GP Trust; Rachel Berkley GP Trust; Megan Berkley GP Trust; and Collin Berkley GP Trust, all of Tescott, Kansas, to become members of the Berkley Family Group acting in concert, who control New Millennium Bankshares, Inc., parent of Alliance Bank, both in Topeka, Kansas.

In connection with this application, Calvin Berkley and Karen Deckert, both of Tescott, Kansas, and Karla Spurgeon, Lawrence, Kansas, all co-trustees of one or more of the above trusts, have applied to become members of the Berkley Family Group.

In addition, Calvin Berkley, Karen Deckert, and Karla Spurgeon, individually as members of the Berkley Family Group will retain voting shares of New Millennium Bankshares, Inc, and thereby indirectly retain voting shares of Alliance Bank, both in Topeka, Kansas.

C. Federal Reserve Bank of San Francisco (Kenneth Binning, Vice President, Applications and Enforcement) 101 Market Street, San Francisco, California 94105-1579:

1. Steven Donald Hovde, Barrington, Illinois; to acquire voting shares of Coastal Financial Corporation, and thereby indirectly acquire voting shares of Coastal Community Bank, both in Everett, Washington.

Board of Governors of the Federal Reserve System, October 6, 2011.
Robert deV. Frierson,
Deputy Secretary of the Board.

[FR Doc. 2011-26434 Filed 10-12-11; 8:45 am]

BILLING CODE 6210-01-P